DEPARTMENT OF ENERGY

Federal Energy Regulatory Commission

Combined Notice of Filings #2

Take notice that the Commission received the following electric corporate filings:

Docket Numbers: EC15-6-000.

Applicants: American Transmission Company LLC.

Description: Application of ATC for Authority to Acquire Transmission Facilities Under Section 203 of the FPA.

Filed Date: 10/9/14.

Accession Number: 20141009-5094.

Comments Due: 5 p.m. ET 10/30/14.

Docket Numbers: EC15-7-000.

Applicants: American Transmission Company LLC.

Description: Application of ATCLLC for Authority to Acquire Transmission Facilities Under Section 203 of the FPA.

Filed Date: 10/9/14.

Accession Number: 20141009-5102.

Comments Due: 5 p.m. ET 10/30/14.

Docket Numbers: EC15-8-000.

Applicants: American Transmission Company LLC.

Description: Application of ATCLLC for Authority to Acquire Transmission Facilities Under Section 203 of the FPA.

Filed Date: 10/9/14.

Accession Number: 20141009-5103.

Comments Due: 5 p.m. ET 10/30/14.

Take notice that the Commission received the following electric rate filings:

Docket Numbers: ER14-2908-000.

Applicants: Public Service Company of New Mexico.

Description: Southern California Public Power Authority submits Certificate of Concurrence to the Public Service Company of New Mexico San Juan Generating Station Fuel and Capital Funding Agreement.

Filed Date: 10/9/14.

Accession Number: 20141009-5171.

Comments Due: 5 p.m. ET 10/30/14.

Docket Numbers: ER15-52-001.

Applicants: Midcontinent Independent System Operator, Inc.

Description: Tariff Amendment per 35.17(b): 2014-10-09 GVTC Amendment to be effective 12/6/2014.

Filed Date: 10/9/14.

Accession Number: 20141009-5205.

Comments Due: 5 p.m. ET 10/30/14.

Docket Numbers: ER15-64-000.

Applicants: ISO New England Inc., New England Power Pool Participants Committee.

Description: Compliance filing per 35: Amendments Related to Order No. 784 Compliance Order to be effective 12/9/2014.

Filed Date: 10/9/14.

Accession Number: 20141009-5150.

Comments Due: 5 p.m. ET 10/30/14.

Docket Numbers: ER15-65-000.

Applicants: Public Service Company of New Hampshire.

Description: § 205(d) rate filing per 35.13(a)(2)(iii): 8 PSNH Qualifying Facility Interconnection Agreements to be effective 12/8/2014.

Filed Date: 10/9/14.

Accession Number: 20141009-5164.

Comments Due: 5 p.m. ET 10/30/14.

Docket Numbers: ER15-66-000.

Applicants: California Independent System Operator Corporation.

Description: § 205(d) rate filing per 35.13(a)(2)(iii): 2014-10-09_GMC to be effective 1/1/2015.

Filed Date: 10/9/14.

Accession Number: 20141009-5200.

Comments Due: 5 p.m. ET 10/30/14.

Docket Numbers: ER15-67-000.

Applicants: Ameren Illinois Company.

Description: § 205(d) rate filing per 35.13(a)(2)(iii): Letter Agreement Between AIC and Prairie Power, Inc. to be effective 9/23/2014.

Filed Date: 10/9/14.

Accession Number: 20141009-5217.

Comments Due: 5 p.m. ET 10/30/14.

Docket Numbers: ER15-68-000.

Applicants: PJM Interconnection, L.L.C.

Description: § 205(d) rate filing per 35.13(a)(2)(iii): Revisions to OATT Att DD Section 5.14(h) re: New Entry costs for CC/CT for MOPR to be effective 12/8/2014.

Filed Date: 10/9/14.

Accession Number: 20141009-5219.

Comments Due: 5 p.m. ET 10/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2014.
Nathaniel J. Davis, Sr.,
Deputy Secretary.

[FR Doc. 2014-24882 Filed 10-17-14; 8:45 am]

BILLING CODE 6717-01-P